SMALL BUSINESS ADMINISTRATION

[License No. 05/05-0340]

Bayview Capital Partners IV, L.P.; Notice Seeking Exemption Under Section 312 of the Small Business Investment Act, Conflicts of Interest

Notice is hereby given that Bayview Capital Partners IV, L.P., 301 Carlson Parkway, Suite 325, Minnetonka, MN 55305, a Federal Licensee under the Small Business Investment Act of 1958, as amended (“the Act”), in connection with the financing of a small concern, is seeking an exemption under Section 312 of the Act and Section 107.730, Financings which Constitute Conflicts of Interest of the Small Business Administration (“SBA”) Rules and Regulations (13 CFR 107.730). Bayview Capital Partners IV, L.P. is seeking a written exemption from SBA for a proposed financing to The Sierra Holding Company LLC dba Fenix Group, 11400 West 47th Street, Minnetonka, MN 55343.

The financing is brought within the purview of § 107.730(a) of the Regulations because The Sierra Holding Company LLC dba Fenix Group is an Associate of Bayview Capital Partners IV, L.P. because Associate Bayview Capital Partners III, L.P. owns a greater than ten percent interest in The Sierra Holding Company LLC dba Fenix Group, therefore this transaction is considered Financing which constitute conflicts of interest requiring SBA's prior written exemption.

Notice is hereby given that any interested person may submit written comments on this transaction within fifteen days of the date of this publication to the Associate Administrator, Office of Investment and Innovation, U.S. Small Business Administration, 409 Third Street SW, Washington, DC 20416.

U.S. Small Business Administration.
Bailey G. DeVries,
Associate Administrator, Office of Investment and Innovation.

[FR Doc. 2022-04231 Filed 2-28-22; 8:45 am]

BILLING CODE 8026-03-P